FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than January 10, 2024.

A. Federal Reserve Bank of Atlanta (Erien O. Terry, Assistant Vice President) 1000 Peachtree Street NE, Atlanta, Georgia 30309. Comments can also be sent electronically to Applications.Comments@atl.frb.org:

1. John Adam Robertson, individually and as trustee of the Edwin G. Robertson Children's Irrevocable Trust, and Aaron Andrew Robertson, individually and as trustee of the Craig E. Robertson Children's Irrevocable Trust, all of Speedwell, Tennessee; as a group acting in concert, to retain voting shares of Robertson Holding Company, L.P., Harrogate, Tennessee. Robertson Holding Company, L.P., controls Commercial Bancgroup, Inc., which controls Commercial Bank, both of Harrogate, Tennessee. Commercial Bancgroup, Inc., also controls AB&T Financial Corporation, which controls Alliance Bank & Trust Company, both of Gastonia, North Carolina.

In addition, Aaron Andrew Robertson; Cynthia Diane Robertson; James Oscar Robertson; John Adam Robertson, all of Speedwell, Tennessee; Sherri Jo Robertson and Noah Bradley Robertson, both of Harrogate, Tennessee; Dakota John Robertson, Bristol, Tennessee; Judith Yvonne Robertson, Cumberland Gap, Tennessee; Matthew Craig Robertson and Matthew Craig Robertson II, both of Tazewell, Tennessee; Olivia Grace Robertson, Hanahan, South Carolina; Emily Alayne King, Halle McLayne King, John McKinley King, and Riley Parker King, all of Powell, Tennessee; as a group acting in concert with Robertson Holding Company, L.P., to retain voting shares of Commercial Bancgroup, Inc.

B. Federal Reserve Bank of Kansas City (Jeffrey Imgarten, Assistant Vice President) One Memorial Drive, Kansas City, Missouri 64198-0001. Comments can also be sent electronically to KCApplicationComments@kc.frb.org:

1. Rebecca Yarbrough, St. Joseph, Missouri, and Dallas Forrest, Columbia, Missouri; to form the Maudlin Family control group, a group acting in concert, to retain voting shares of First American Bancshares, Inc., and thereby indirectly retain voting shares of First Security Bank, both of Union Star, Missouri.

Board of Governors of the Federal Reserve System.
Michele Taylor Fennell,
Deputy Associate Secretary of the Board.

[FR Doc. 2023-28383 Filed 12-22-23; 8:45 am]

BILLING CODE P